DEPARTMENT OF THE INTERIOR

Bureau of Ocean Energy Management

[Docket No. BOEM-2012-0048]

Commercial Wind Lease Issuance and Site Assessment Activities on the Atlantic Outer Continental Shelf (OCS) Offshore Rhode Island and Massachusetts

AGENCY: Bureau of Ocean Energy Management (BOEM), Interior.

ACTION: Notice of the availability of an environmental assessment.

SUMMARY: BOEM has prepared an environmental assessment (EA) considering the reasonably foreseeable environmental impacts and socioeconomic effects of issuing renewable energy leases and subsequent site characterization activities (geophysical, geotechnical, archaeological, and biological surveys needed to develop specific project proposals on those leases) in an identified Wind Energy Area (WEA) on the OCS offshore Rhode Island (RI) and Massachusetts (MA). This EA also considers the reasonably foreseeable environmental impacts associated with the approval of site assessment activities (including the installation and operation of meteorological towers and buoys) on the leases that may be issued in the WEA. The purpose of this notice is to inform the public of the availability of the EA for review and to solicit public comments on the EA. The EA can be found online at http://www.boem.gov/Renewable-Energy-Program/Smart-from-the-Start/Index.aspx.

Authority: This Notice of the Availability (NOA) of an EA is published pursuant to 43 CFR 46.305.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION: On August 18, 2011, BOEM published a Notice of Intent (NOI) to prepare an EA, which requested public comments on alternatives to be considered in the EA as well as measures (e.g., limitations on activities based on technology, distance from shore, or timing) that would mitigate impacts to environmental resources and socioeconomic conditions that could result from leasing, site characterization, and site assessment in and around the Call Area (76 FR 51391). The Call Area is located within the Area of Mutual Interest (AMI), as described by a Memorandum of Understanding between the Governors of RI and MA. Comments received in response to the NOI can be viewed at: http://www.regulations.gov by searching for Docket ID BOEM-2011-0063.

On February 24, 2012, BOEM announced the area identification of the RI/MA WEA. The WEA does not include the “high value” fishing grounds located in the Call Area. This EA analyzes the WEA for leasing and approval of site assessment plans as the proposed action under the National Environmental Policy Act (42 U.S.C. 4321-4370f). In this EA, BOEM also identifies other alternatives to the proposed action that could exclude additional portions of the WEA from leasing based on a number of factors, such as potential effects to right whales, the viewshed, and existing telecommunication cables.

BOEM is seeking public input on the EA, including comments on the completeness and adequacy of the environmental analysis, and on the measures and operating conditions considered in the EA that are designed to reduce or eliminate potential environmental impacts. BOEM will consider public comments on the EA in determining whether to issue a Finding of No Significant Impact (FONSI), or conduct additional analysis under NEPA.

Comments

Federal, state, and local government agencies, tribal governments, and other interested parties are requested to submit their written comments on the EA in one of the following ways:

1. Electronically: http://www.regulations.gov. In the entry entitled “Enter Keyword or ID,” enter BOEM-2012-0048, then click “search.” Follow the instructions to submit public comments and view supporting and related materials available for this document.

2. In written form, delivered by hand or by mail, enclosed in an envelope labeled “Comments on Commercial Wind Lease Issuance and Site Assessment Activities on the Atlantic OCS Offshore RI and MA” to: Program Manager, Office of Renewable Energy Programs, Bureau of Ocean Energy Management, 381 Elden Street, HM 1328, Herndon, Virginia 20170-4817.

Comments must be received or postmarked no later than August 2, 2012. All written comments received or postmarked during the comment period will be made available to the public.

Dated: June 26, 2012.
Tommy P. Beaudreau,
Director, Bureau of Ocean Energy Management.

[FR Doc. 2012-16155 Filed 7-2-12; 8:45 am]

BILLING CODE 4310-MR-P